DEPARTMENT OF ENERGY

Federal Energy Regulatory Commission

[Docket No. RP03-586-000]

Petal Gas Storage, L.L.C.; Notice of Tariff Filing

September 4, 2003.

Take notice that on August 29, 2003, Petal Gas Storage, L.L.C. (Petal), tendered for filing as part of its FERC Gas Tariff, of the following tariff sheets, with an effective date of October 1, 2003:

Third Revised Sheet No. 105.

Third Revised Sheet No. 108.

Fourth Revised Sheet No. 109.

Fifth Revised Sheet No. 123.

Fifth Revised Sheet No. 126.

Fifth Revised Sheet No. 127.

Second Revised Sheet No. 210.

Second Revised Sheet No. 222.

?

Petal states that it submits the instant filing to make ministerial cleanup changes to its tariff, including updating the contact, address and payment information and creating a Title Page. Petal states that the instant filing is purely ministerial in nature and makes no substantive changes to the tariff.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “eLibrary” link, select “Docket#” and follow the instructions (call 202-502-8659 for assistance). Comments, protests and interventions may be filed electronically via the Internet in lieu of paper. See 18 CFR 385.2001(a)(1)(iii) and the instructions on the Commission's Web site under the “e-Filing” link.

Comment Date: September 10, 2003.

Magalie R. Salas,
Secretary.

[FR Doc. 03-23037 Filed 9-9-03; 8:45 am]

BILLING CODE 6717-01-P